DEPARTMENT OF STATE

[Public Notice 9044]

Waiver of Chemical and Biological Weapons (CBW) Proliferation Sanctions Against Certain Chinese Entities

AGENCY: Department of State.

ACTION: Notice.

SUMMARY: A determination has been made, pursuant to Section 81(e) of the Arms Export Control Act and Section 11C(e) of the Export Administration Act of 1979, as amended, to waive nonproliferation sanctions imposed under these Acts on certain Chinese entities.

DATES: Effective Date: Upon publication in the Federal Register.

FOR FURTHER INFORMATION CONTACT: Pamela K. Durham, Office of Missile, Biological, and Chemical Nonproliferation, Bureau of International Security and Nonproliferation, Department of State, Telephone (202) 647-4930.

SUPPLEMENTARY INFORMATION: Pursuant to Section 81(e) of the Arms Export Control Act (22 U.S.C. 2798(e)) and Section 11C(e) of the Export Administration Act of 1979, as amended (50 U.S.C. app. 2410c(e)), the Under Secretary of State for Arms Control and International Security determined and certified to Congress that waiving sanctions originally imposed on May 21, 1997 (see Volume 62 FR Public Notice 28304) on the following Chinese entities and successors is important to the national security interests of the United States:

1. Nanjing Chemical Industries Group (NCI)

2. Jiangsu Yongli Chemical Engineering and Technology Import/Export Company

Dates: February 18, 2015.
Thomas M. Countryman,
Assistant Secretary of State for International Security and Nonproliferation.

[FR Doc. 2015-03757 Filed 2-23-15; 8:45 am]

BILLING CODE 4710-27-P